DEPARTMENT OF JUSTICE

Drug Enforcement Administration

[Docket No. DEA-654]

Importer of Controlled Substances Application: Bellwyck Clinical Services

ACTION: Notice of application.

DATES: Registered bulk manufacturers of the affected basic class(es), and applicants therefore, may file written comments on or objections to the issuance of the proposed registration on or before July 6, 2020. Such persons may also file a written request for a hearing on the application on or before July 6, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 19, 2020, Bellwyck Clinical Services, 8946 Global Way, West Chester, Ohio 45069, applied to be registered as an importer of the following basic class(es) of controlled substances:

Controlled substances | Drug code | Schedule
Amphetamine | 1100 | II
Methylphenidate | 1724 | II
Oxycodone | 9143 | II

The company plans to import the listed controlled substances in dosage form to conduct clinical trials. Approval of permit applications will occur only when the registrant's activity is consistent with what is authorized under 21 U.S.C. 952(a) (2). Authorization will not extend to the import of Food and Drug Administration (FDA)-approved or non-approved finished dosage forms for commercial sale.

William T. McDermott,
Assistant Administrator.

[FR Doc. 2020-12082 Filed 6-3-20; 8:45 am]

BILLING CODE 4410-09-P